DEPARTMENT OF ENERGY

Federal Energy Regulatory Commission

[Docket No. ER00-1655-004]

Southern Company Services, Inc.; Notice of Filing

October 5, 2000.

Take notice that on October 2, 2000, Southern Company Services, Inc. (SCSI), acting as agent for Alabama Power Company, Georgia Power Company, Gulf Power Company, Mississippi Power Company, and Savannah Electric and Power Company tendered for filing two revised pages to the Southern Company System Intercompany Interchange Contract to reflect the clarifications directed in the order issued September 27, 2000, that conditionally accepted SCSI's earlier compliance filing dated June 20, 2000.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before October 16, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-26133 Filed 10-11-00; 8:45 am]

BILLING CODE 6717-01-M